DEPARTMENT OF THE INTERIOR

Fish and Wildlife Service

Sport Fishing and Boating Partnership Council

AGENCY: Fish and Wildlife Service, Interior.

ACTION: Notice of teleconference.

SUMMARY: We, the Fish and Wildlife Service, announce a public teleconference of the Sport Fishing and Boating Partnership Council (Council).

DATES: We will hold the teleconference on Tuesday, February 20, 2007, from 3 p.m. to 5 p.m. (Eastern Time). Members of the public wishing to participate in the teleconference must notify Douglas Hobbs by close of business on Friday, February 16, 2007, per instructions under the SUPPLEMENTARY INFORMATION section of this notice. Submit written statements for this teleconference no later than February 13, 2007.

ADDRESSES: Council Coordinator, 4401 North Fairfax Drive, Mailstop 3103-AEA, Arlington, VA 22203.

FOR FURTHER INFORMATION CONTACT: Doug Hobbs (see ADDRESSES), (703) 358-2336 (phone), (703) 358-2548 (fax), or doug_hobbs@fws.gov (e-mail).

SUPPLEMENTARY INFORMATION: In accordance with the requirements of the Federal Advisory Committee Act, 5 U.S.C. App., we give notice that the Sport Fishing and Boating Partnership Council will hold a teleconference on Tuesday, February 20, 2007, from 3 p.m. to 5 p.m.

Background

The Council was formed in January 1993 to advise the Secretary of the Interior, through the Director, U.S. Fish and Wildlife Service, about sport fishing and boating issues. The Council represents the interests of the public and private sectors of the sport fishing and boating communities and is organized to enhance partnerships among industry, constituency groups, and government. The 18-member Council, appointed by the Secretary of the Interior, includes the Director of the Service and the president of the International Association of Fish and Wildlife Agencies, who both serve in ex officio capacities. Other Council members are Directors from State agencies responsible for managing recreational fish and wildlife resources and individuals who represent the interests of saltwater and freshwater recreational fishing, recreational boating, the recreational fishing and boating industries, recreational fisheries resource conservation, aquatic resource outreach and education, and tourism. Background information on the Council is available at http://www.fws.gov/sfbpc.

The Council will convene to: (1) Approve recommendations to the Director of the Fish and Wildlife Service for funding Fiscal Year 2007 Boating Infrastructure Grant proposals; and (2) Be briefed on a Fish and Wildlife Service proposal related to combining some or all functions of the Fisheries and Habitat Conservation program and the Endangered Species program. The final agenda will be posted on the Internet at http://www.fws.gov/sfbpc.

Procedures for Public Input

Interested members of the public may submit relevant written or oral information for the Council to consider during the public teleconference. Questions from the public will not be considered during this period. Speakers who wish to expand upon their oral statements or those who had wished to speak but could not be accommodated on the agenda are invited to submit written statements to the Council.

Individuals or groups requesting an oral presentation at the public Council teleconference will be limited to 3 minutes per speaker, with no more than a total of one-half hour for all speakers. Interested parties should contact Douglas Hobbs, Council Coordinator, in writing (preferably via e-mail), by Friday, February 16, 2007, at the contact information under FOR FURTHER INFORMATION CONTACT to be placed on the public speaker list for this teleconference. We must receive your written statements by Tuesday, February 13, 2007, so that the information may be made available to the Council for their consideration prior to this teleconference. Submit your written statements to the Council Coordinator in the following formats: One hard copy with original signature, and one electronic copy via e-mail (acceptable file format: Adobe Acrobat PDF, WordPerfect, MS Word, MS PowerPoint, or Rich Text files in IBM-PC/Windows 98/2000/XP format).

Summary minutes of the conference will be maintained by the Council Coordinator at 4401 N. Fairfax Drive, MS-3101-AEA, Arlington, VA 22203, and will be available for public inspection during regular business hours within 30 days following the meeting. Personal copies may be purchased for the cost of duplication.

Dated: January 24, 2007.
Kevin Adams,
Acting Director.

[FR Doc. E7-2149 Filed 2-8-07; 8:45 am]

BILLING CODE 4310-55-P